DEPARTMENT OF DEFENSE

Department of the Army, Corps of Engineers

Intent To Prepare a Joint Environmental Impact Statement/Environmental Impact Report for the San Clemente Shoreline Feasibility Study, San Clemente, CA

AGENCY: Army Corps of Engineers (Corps), DoD.

ACTION: Notice of intent.

SUMMARY: The Corps and the city of San Clemente propose to study alternatives to provide shoreline protection to the San Clemente Shoreline. The study is for that portion of the shoreline that runs from Shorecliff Beach to San Mateo Point, approximately eight kilometers (five miles).

FOR FURTHER INFORMATION CONTACT: Questions regarding the scoping process or preparation of the EIS/EIR may be directed to Mr. Paul Rose, Chief, Environmental Resources Branch, U.S. Army Corps of Engineers, P.O. Box 532711, Los Angeles, California, 90053-2325, (213) 452-3840.

SUPPLEMENTARY INFORMATION:

1. Proposed Action

Provide shoreline protection against wave attack from coastal storms to the San Clemente shoreline. Running along the entire length of the San Clemente shoreline is a portion of the Los Angeles to San Diego (Lossan) railroad corridor. The Lossan is a major passenger rail line linking San Diego to the rest of the United States. The Lossan is owned by the Orange County Transportation Authority (OCTA). This commuter rail corridor is among the busiest in the country and separates the beach from the bluff. Loss of shoreline protection and recreational beach width is a continuous problem for the city of San Clemente. Damages to coastal residential and commercial properties from storm-induced waves have become a serious threat over the past several years. The study will investigate alternatives to provide shoreline protection.

2. Alternatives

Alternatives that may be considered include non-structural and/or structural measures to provide protection against wave attack from coastal storms. Non-structural measures include beach and near-shore nourishment with dredged sand.

3. Scoping Process

The Corps and the city of San Clemente are preparing a joint Environmental Impact Statement/Environmental Impact Report (EIS/EIR) to address potential impacts associated with the proposed project. The Corps is the Lead Federal Agency for compliance with NEPA for the project, and the city of San Clemente is the Lead State Agency for compliance with the CEQA for the non-Federal aspects of the project. The Draft EIS/EIR (DEIS/EIR) document will incorporate public concerns in the analysis of impacts associated with the Proposed Action and associated project alternatives. The DEIS/EIR will be sent out for a 45-day public review period, during which time both written and verbal comments will be solicited on the adequacy of the document. The Final EIS/EIR (FEIS/EIR) will address the comments received on the DEIS/EIR during public review, and will be furnished to all who commented on the DEIS/EIR, and is made available to anyone that requests a copy during the 30-day public comment period. The final step involves, for the Federal EIS, preparing a Record of Decision (ROD) and, for the state EIR, certifying the EIR and adopting a Mitigation Monitoring and Reporting Plan. The ROD is a concise summary of the decisions made by the Corps from among the alternatives presented in the FEIS/EIR. The ROD can be published immediately after the FEIS public comment period ends. A certified EIR indicates that the environmental document adequately assesses the environmental impacts of the proposed project with respect to CEQA. A formal scoping meeting to solicit public comment and concerns on the proposed action and alternatives will be held on January 10, 2002 at 7 p.m., in the Multipurpose Room (1 & 2) in the San Clemente Senior Center, 242 Avenue Del Mar, San Clemente, California.

Luz D. Ortiz,
Army Federal Register Liaison Officer.

[FR Doc. 02-771 Filed 1-10-02; 8:45 am]

BILLING CODE 3710-KF-M